FEDERAL MARITIME COMMISSION

Notice of Agreements Filed

The Commission hereby gives notice of the filing of the following agreements under the Shipping Act of 1984. Interested parties may obtain copies of agreements by contacting the Commission's Office of Agreements at (202) 523-5793 or via e-mail at tradeanalysis@fmc.gov. Interested parties may submit comments on an agreement to the Secretary, Federal Maritime Commission, Washington, DC 20573, within 10 days of the date this notice appears in the Federal Register.

Agreement No.: 008493-024.

Title: Trans-Pacific American Flag Berth Operators Agreement.

Parties: American President Lines, Ltd., and A.P. Moller-Maersk A/S.

Filing Party: Howard A. Levy, Esq.; 120 Wall Street, Suite 2020; New York, NY 10005-4001.

Synopsis: The amendment updates Maersk's corporate name.

Agreement No.: 010714-037.

Title: Trans-Atlantic American Flag Liner Operators Agreement.

Parties: A.P. Moller-Maersk A/S; American President Lines, Ltd.; American Roll-On Roll-Off Carrier, LLC; Farrell Lines Incorporated; Lykes Lines Limited, LLC; and P&O Nedlloyd Limited.

Filing Party: Howard A. Levy, Esq.; 120 Wall Street, Suite 2020; New York, NY 10005-4001.

Synopsis: The amendment updates Maersk's corporate name.

Agreement No.: 011117-034.

Title: United States/Australasia Discussion Agreement.

Parties: A.P. Moller-Maersk A/S; Australia-New Zealand Direct Line; CMA CGM, S.A.; Compagnie Maritime Marfret, S.A.; Fesco Ocean Management Limited; Hamburg-Sud; Lykes Lines Limited, LLC; P&O Nedlloyd Limited; Safmarine Container Lines NV; and Wallenius Wilhelmsen Lines AS.

Filing Party: Wayne R. Rohde, Esq.; Sher & Blackwell; 1850 M Street, NW., Suite 900; Washington, DC 20036.

Synopsis: The amendment adds Safmarine as a party to the agreement and clarifies that Maersk and Safmarine will act as a single party under the agreement.

Agreement No.: 011223-029.

Title: Transpacific Stabilization Agreement

Parties: APL Co. Pte. Ltd.; American President Lines, Ltd.; CMA CGM, S.A.; COSCO Container Lines Ltd.; Evergreen Marine Corp. (Taiwan) Ltd.; Hanjin Shipping Co., Ltd.; Hapag-Lloyd Container Linie GmbH; Hyundai Merchant Marine Co., Ltd.; Kawasaki Kisen Kaisha, Ltd.; Mitsui O.S.K. Lines, Ltd.; Nippon Yusen Kaisha; Orient Overseas Container Line Limited; P&O Nedlloyd B.V.; P&O Nedlloyd Limited; and Yangming Marine Transport Corp.

Filing Party: David F. Smith, Esq.; Sher & Blackwell; 1850 M Street, NW., Suite 900; Washington, DC 20036.

Synopsis: The amendment deletes A.P. Moller-Maersk A/S as a party to the agreement.

Agreement No.: 011275-016.

Title: Australia/United States Discussion Agreement

Parties: A.P. Moller-Maersk A/S; Australia-New Zealand Direct Line; FESCO Ocean Management Inc.; Hamburg-Sud; LauritzenCool AB; Lykes Lines Limited, LLC; P&O Nedlloyd Limited; Safmarine Container Lines NV; and Seatrade Group NV.

Filing Party: Wayne R. Rohde, Esq.; Sher & Blackwell; 1850 M Street, NW., Suite 900; Washington, DC 20036.

Synopsis: The amendment adds Safmarine as a party to the agreement and clarifies that Maersk and Safmarine will act as a single party under the agreement.

Agreement No.: 011427-002.

Title: Japanese-U.S. Carrier Discussion Agreement.

Parties: Kawasaki Kisen Kaisha, Ltd; Mitsui O.S.K. Lines, Ltd.; Nippon Yusen Kaisha; and American President Lines, Ltd.

Filing Party: David F. Smith, Esq.; Sher & Blackwell; 1850 M Street, NW., Suite 900; Washington, DC 20036 and Charles F. Warren, Esq.; Warren & Associates, P.C.; 1100 Connecticut Avenue, NW.; Washington, DC 20036.

Synopsis: The amendment deletes A.P. Moller-Maersk Sealand as a party to the agreement.

Agreement No.: 011515-010.

Title: Steamship Line Cooperative Chassis Pool.

Parties: Atlantic Container Line AB; China Shipping Container Lines Co., Ltd.; COSCO Container Lines Company, Ltd.; CMA CGM, S.A.; Compania Sud Americana de Vapores, S.A.; Evergreen Marine Corp. (Taiwan) Ltd.; Hanjin Shipping Co., Ltd.; Kawasaki Kisen Kaisha, Ltd.; Mediterranean Shipping Company, S.A.; Safmarine Container Lines, NV; Yangming Marine Transport Corporation; and Zim Integrated Shipping Services, Ltd.

Filing Party: David F. Smith, Esq.; Sher & Blackwell LLP; 1850 M Street, NW.; Suite 900; Washington, DC 20036.

Synopsis: The amendment deletes American President Lines, Ltd. and adds Evergreen Marine Corp. (Taiwan) Ltd. as parties to the agreement; updates Zim's corporate name; and deletes unnecessarily repetitive language.

Agreement No.: 011527-009.

Title: East Coast Americas Service.

Parties: Hanjin Shipping Co., Ltd.; Kawasaki Kisen Kaisha, Ltd.; Mitsui O.S.K. Lines, Ltd.; and Zim Integrated Shipping Services Ltd.

Filing Party: Howard A. Levy, Esq.; 120 Wall Street, Suite 2020; New York, NY 10005-4001.

Synopsis: The amendment reflects Zim's new corporate name.

Agreement No.: 011660-003.

Title: Administrative Housekeeping Agreement.

Parties: A.P. Moller-Maersk A/S; American President Lines, Ltd.; American Roll-On Roll-Off Carriers, LLC; and Farrell Lines Incorporated; and P&O Nedlloyd Limited.

Filing Party: Howard A. Levy, Esq.; 120 Wall Street, Suite 2020; New York, NY 10005-4001.

Synopsis: The amendment updates Maersk's corporate name, indicates that P&O Nedlloyd and Farrell Lines are acting as one party, and adds American Roll-On Roll-Off Carriers.

Agreement No.: 011710-001.

Title: TAAFC/USSEC Housekeeping Services Agreement.

Parties: A.P. Moller-Maersk A/S and P&O Nedlloyd Limited, as parties to the U.S. South Europe Conference, and Trans-Atlantic Associated Conferences (London).

Filing Party: Wayne R. Rohde, Esq.; Sher & Blackwell; 1850 M Street, NW., Suite 900; Washington, DC 20036.

Synopsis: The amendment updates Maersk's corporate name.

Agreement No.: 011810-001.

Title: GUMEX-Brasil Cooperative Working Agreement.

Parties: CMA CGM, S.A. and Hapag-Lloyd Container Linie GmbH.

Filing Party: Wayne R. Rohde, Esq.; Sher & Blackwell; 1850 M Street, NW., Suite 900; Washington, DC 20036.

Synopsis: The amendment deletes authority for the parties to discuss and agree on rates.

Agreement No.: 011852-011.

Title: Maritime Security Discussion Agreement.

Parties: Australia-New Zealand Direct Line; China Shipping Container Lines, Co., Ltd.; Canada Maritime; CMA CGM, S.A.; Contship Container Lines; COSCO Container Lines Company, Ltd.; CP Ships (UK) Limited; Evergreen Marine Corp.; Hanjin Shipping Company, Ltd.; Hapag Lloyd Container Linie GmbH; Hyundai Merchant Marine Co., Ltd.; Italia di Navigazione, LLC; Kawasaki Kisen Kaisha Ltd.; Lykes Lines Limited, LLC; Nippon Yusen Kaisha; Orient Overseas Container Line Limited; P&O Nedlloyd Limited; TMM Lines Limited, LLC; Yang Ming Marine Transport Corp.; Zim Israel Navigation Co., Ltd.; Alabama State Port Authority; APM Terminals North America, Inc.; Ceres Terminals, Inc.; Cooper/T. Smith Stevedoring Co., Inc.; Eagle Marine Services Ltd.; Global Terminal & Container Services, Inc.; Howland Hook Container Terminal, Inc.; Husky Terminal & Stevedoring, Inc.; International Shipping Agency; International Transportation Service, Inc.; Lambert's Point Docks Inc.; Long Beach Container Terminal, Inc.; Maersk Pacific Ltd.; Maher Terminals, Inc.; Marine Terminals Corp.; Maryland Port Administration; Massachusetts Port Authority; Metropolitan Stevedore Co.; P&O Ports North American, Inc.; Port of Tacoma; South Carolina State Ports Authority; Stevedoring Services of America, Inc.; Trans Bay Container Terminal, Inc.; TraPac Terminals; Universal Maritime Service Corp.; Virginia International Terminals; and Yusen Terminals, Inc.

Filing Parties: Carol N. Lambos; Lambos & Junge; 29 Broadway, 9th Floor; New York, NY 10006 and Charles T. Carroll, Jr.; Carroll & Froelich, PLLC; 2011 Pennsylvania Avenue, NW.; Suite 301; Washington, DC 20006.

Synopsis: The amendment deletes American President Lines, Ltd., APL Co. Pte Ltd., and Mitsui O.S.K. Lines, Ltd. as parties to the agreement.

Agreement No.: 011890.

Title: SCM Lines Ltd./Seaboard Marine Ltd. Space Charter Agreement.

Parties: SCM Lines, Ltd. and Seaboard Marine, Ltd.

Filing Party: Maria E. Yordan; Director of Marketing; SCM Lines USA, LLC; 7205 Corporate Center Drive, Suite 404; Miami, FL 33126.

Synopsis: The proposed agreement would authorize SCM Lines to charter space to Seaboard Marine between U.S. East and Gulf Coast ports and Guanta, Venezuela.

By Order of the Federal Maritime Commission.
Dated: September 24, 2004.
Bryant L. VanBrakle,
Secretary.

[FR Doc. 04-21836 Filed 9-28-04; 8:45 am]

BILLING CODE 6730-01-P